DEPARTMENT OF DEFENSE

Office of the Secretary

Seventh Annual National Security Education Program (NSEP) Institutional Grants Competition

AGENCY: Department of Defense, National Security Education Program (NSEP).

ACTION: Notice.

SUMMARY: The NSEP announces the opening of its Seventh Annual Competition for Grants to U.S. Institutions of Higher Education.

DATES: The 2000 NSEP Grants Competition begins on Friday, February 4, 2000. [Preliminary Proposals are due Monday, April 10, 2000.

ADDRESSES: Grants Solicitations (application and guidelines) will be available and may be downloaded from the NSEP home page (http://www.ndu.edu/nsep) beginning Friday, February 4, 2000. As alternate methods, you may obtain copies of the solicitation package by: writing to NSEP, Institutional Grants, Rossyln P.O. Box 20010, 1101 Wilson Blvd., Suite 1210, Arlington, VA 22209-2248; by facsimile request nsepo@ndu.edu

FOR FURTHER INFORMATION CONTACT: Carol Anne Spreen, Institutional grants Director, National Security Education Program, 1101 Wilson Boulevard, Suite 1210, Arlington, VA 22209-2248; (703) 696-1991; Electronic mail address: spreenc@ndu.edu

Dated: November 22, 1999.
L.M. Bynum,
Alternate OSD Federal Register Liaison Officer, Department of Defense.

[FR Doc. 00-2442 Filed 2-3ndash;00; 8:45am]

BILLING CODE 5001-10-M